DEPARTMENT OF STATE

[Public Notice: 12423]

Determinations Regarding Use of Chemical Weapons by Russia Under the Chemical and Biological Weapons Control and Warfare Elimination Act of 1991

ACTION: Notice.

SUMMARY: The Acting Under Secretary of State for Political Affairs, acting under authority delegated pursuant to an Executive order, has determined pursuant to section 306(a) of the Chemical and Biological Weapons Control and Warfare Elimination Act of 1991 (the Act), that the Government of the Russian Federation has used chemical weapons in violation of international law. In addition, the Acting Under Secretary of State for Political Affairs has determined and certified to Congress pursuant to section 307(d) of the Act that it is essential to the national security interests of the United States to partially waive the application of the sanctions required under section 307(a) of the Act with respect to foreign assistance, licenses for the export of items on the U.S. Munitions List (USML), and the licensing of national security-sensitive goods and technology. The following is a notice of the sanctions to be imposed pursuant to section 307(a) of the Act, subject to these waivers.

DATES: June 7, 2024.

FOR FURTHER INFORMATION CONTACT: Pamela K. Durham, Office of Missile, Biological, and Chemical Nonproliferation, Bureau of International Security and Nonproliferation, Department of State, Telephone (202) 647-4930.

SUPPLEMENTARY INFORMATION: Pursuant to sections 306(a), 307(a), and 307(d) of the Chemical and Biological Weapons Control and Warfare Elimination Act of 1991 (22 U.S.C. 5604(a), 5605(a), and 5605(d)), on April 25, 2024 the Acting Under Secretary of State for Political Affairs determined that the Government of the Russian Federation has used chemical or biological weapons in violation of international law or lethal chemical or biological weapons against its own nationals. As a result, the following sanctions are hereby imposed:

1. Foreign Assistance: Termination of assistance to Russia under the Foreign Assistance Act of 1961, except for urgent humanitarian assistance and food or other agricultural commodities or products.

The Acting Under Secretary of State for Political Affairs has determined that it is essential to the national security interests of the United States to waive the application of this restriction.

2. Arms Sales: Termination of (a) sales to Russia under the Arms Export Control Act of any defense articles, defense services, or design and construction services, and (b) licenses for the export to Russia of any item on the United States Munitions List.

The Acting Under Secretary of State for Political Affairs has determined that it is essential to the national security interests of the United States to waive the application of this sanction with respect to the issuance of licenses in support of government space cooperation, provided that applications for such licenses shall be reviewed on a case-by-case basis and consistent with export licensing policy for Russia prior to the date of the determination. Licenses in support of commercial space launches, shall be reviewed subject to a policy of denial.

3. Arms Sales Financing: Termination of all foreign military financing for Russia under the Arms Export Control Act.

4. Denial of United States Government Credit or Other Financial Assistance: Denial to Russia of any credit, credit guarantees, or other financial assistance by any department, agency, or instrumentality of the United States Government, including the Export-Import Bank of the United States.

5. Exports of National Security-Sensitive Goods and Technology: Prohibition on the export to Russia of any goods or technology controlled for National Security reasons on the control list established under 50 U.S.C. 4813(a)(1).

The Secretary of State has determined that it is essential to the national security interests of the United States to waive the application of this sanction and replace it with the following policies:

License Exceptions: Exports and re-exports of goods or technology eligible under License Exceptions GOV, ENC, BAG, TMP, and AVS.

Safety Of Flight: Exports and re-exports of goods or technology pursuant to new licenses necessary for the safety of flight of civil fixed-wing passenger aviation, provided that applications for such licenses shall be reviewed on a case-by-case basis, consistent with export licensing policy for Russia prior to the date of the determination.

Deemed Exports/Reexports: Exports and re-exports of goods or technology pursuant to new licenses for deemed exports and re-exports to Russian nationals, provided that applications for such licenses shall be reviewed on a case-by-case basis, consistent with export licensing policy for Russia prior to the date of the determination.

Wholly-Owned U.S. and Other Foreign Subsidiaries: Exports and re-exports of goods or technology pursuant to new licenses for exports and re-exports to wholly-owned U.S. and other foreign subsidiaries in Russia, provided that applications for such licenses shall be reviewed on a case-by-case basis, consistent with export licensing policy for Russia prior to the date of the determination.

Government Space Cooperation: Exports and re-exports of goods or technology pursuant to new licenses in support of government space cooperation, provided that applications for such licenses shall be reviewed on a case-by-case basis, consistent with export licensing policy for Russia prior to the date of the determination.

Commercial Space Launches: Exports and re-exports of goods or technology pursuant to new licenses in support of commercial space launches, will be reviewed subject to a policy of denial.

Commercial End-Users: Exports and re-exports of goods or technology pursuant to new licenses for commercial end-users for civil end-uses in Russia unless they are wholly-owned U.S. or other foreign subsidiaries in Russia, provided that applications for such licenses will be reviewed on case-by-case basis and subject to a “presumption of denial” policy.

The Department of Commerce has implemented additional restrictions against Russia in response to its invasion of Ukraine. For the most current information about these restrictions, please see the Export Administration Regulations, e.g., 15 CFR parts 744 and 746. Also see https://www.bis.gov.

These measures shall be implemented by the responsible departments and agencies of the United States government and will remain in place for at least one year and until further notice.

Choo S. Kang,
Assistant Secretary, Bureau of International Security and Nonproliferation, Department of State.

[FR Doc. 2024-12481 Filed 6-6-24; 8:45 am]

BILLING CODE 4710-27-P